DEPARTMENT OF THE INTERIOR

Bureau of Land Management

[CO-120-00-1610-DH-241A]

Notice of Availability of Proposed Resource Management Plan Amendments for Kremmling Field Office Resource Management Plan

AGENCY: Bureau of Land Management, Interior.

ACTION: Notices of Availability.

SUMMARY: The Kremmling Field Office of the Bureau of Land Management is proposing to make two amendments to the Kremmling Resource Management Plan (RMP). One amendment would establish management direction for lands recently acquired through land acquisitions. The other amendment would expand the boundary of the Upper Colorado River Special Recreation Management Area (SRMA) and consider management changes for the SRMA. The amendments only affect public lands in the Kremmling Field Office, and would have no affect on private lands.

ADDRESSES: For further information contact Dave Atkins, Bureau of Land Management (BLM), 2815 H Road, Grand Junction, Colorado 81505; Telephone (970) 244-3074.

DATES: The final decision on the amendments will be made following a 60-day Governor's Consistency Review, a 30-day protest period, and resolution of inconsistencies and protests, if any. The 30-day protest period is initiated by this notice.

SUPPLEMENTAL INFORMATION: Notices of Intent for these two Plan amendments were published in the Federal Register on August 26, 1999. All comments received as a result of the Notices were considered in preparation of the Plan amendments and environmental assessments.

The first Plan amendment would establish land use planning prescriptions and land use priorities for fourteen separate parcels of land acquired by the Kremmling Field Office since the Kremmling RMP was completed in 1984. The RMP amendment would also facilitate establishing land management prescriptions and land use priorities for future land acquisitions during the environmental analysis process associated with each specific land acquisition.

The second Plan amendment would expand the boundary of the Upper Colorado River Special Recreation Management Area (SRMA) and consider management changes for the SRMA. The specific management changes include the following:

#1. Modify the boundary of the SRMA. The current SRMA boundary would be expanded to approximately ½ mile each side of the Colorado river, and would be extended approximately 7½ miles upstream to near Reeder Creek.

#2. Land use priorities would be changed for some public lands in the proposed SRMA. Of the 12,237 acres of public land in the SRMA, approximately 8,787 acres would be identified as a recreation priority, 2,542 acres as a wildlife priority, 833 acres as a soil priority, 35 acres as a protected area priority, and 40 acres with no priority. In addition, 20.8 miles of the Colorado River and associated tributaries would be designated as a water priority.

#3. Because of the recreation emphasis of the SRMA, the amendment would also address enlarging the existing No Surface Occupancy (NSO) area for oil and gas development within the river corridor, to that of the new SRMA boundary. This would result in 12,237 acres of NSO within the SRMA. There are currently 4,870 acres of NSO within the boundary of the existing SRMA boundary. Consequently, this action would increase the acreage of NSO by 7,367 acres. The amendment would also ensure that any future lands within the SRMA that are acquired by the Federal government would have an NSO stipulation for oil and gas development. There would be no affect on these lands unless acquired by the Federal government.

#4. The amendment would also withdraw the entire 12,237 acres of Federal surface estate within the SRMA from settlement, sale, location, or entry under the general land laws, including the mining laws. It would also withdraw 1,020 acres of private or state land with Federal minerals. The amendment would also identify additional private or State owned lands within the SRMA that would be withdrawn from the lands and mining laws if they were ever acquired by the Federal government. By including these private lands at this time, they would automatically be withdrawn if acquired by the Federal Government. There would be no affect on the private lands unless they were acquired by the Federal Government.

The above two alternatives as well as the no action alternative were analyzed in the environmental assessments associated with the amendments of the RMP.

The Bureau's planning regulations (43 CFR 1610.5-2) provide protest procedures for persons adversely affected by the approval of RMP amendments. Any person who participated in the planning process and has an interest which is or may be adversely affected by the amendment of an RMP may protest such amendments. A protest may only raise those issues which were submitted for the record during the planning process. The protest shall be in writing and shall be filed with the Director. The protest must be filed within 30 days of the date of this notice. Protests shall be filled with: Director, Bureau of Land Management, Attention: Ms Brenda Williams, Protest Coordinator (WO-210), WO-210/LS-1075, Department of the Interior, Washington DC 20240.

The overnight mail address is: Director, Bureau of Land Management, Attention: Ms Brenda Williams, Protest Coordinator (WO-210), 1620 L Street, NW, Rm. 1075, Washington, DC 20036, [Phone: 202/452-5110].

Dated: March 24, 2000.
Linda M. Gross,
Kremmling Field Manager.

[FR Doc. 00-7876 Filed 3-29-00; 8:45 am]

BILLING CODE 4310-JB-P